NUCLEAR REGULATORY COMMISSION

[Docket Nos. 52-029-COL, 52-030-COL; ASLBP No. 09-879-04-COL-BD01]

Progress Energy Florida, Inc. (Combined License Application for Levy County Nuclear Power Plant, Units 1 and 2)

Notice of Atomic Safety and Licensing Board Reconstitution

Pursuant to 10 CFR 2.313(c) and 2.321(b), the Atomic Safety and Licensing Board (Board) in the above-captioned Progress Energy Florida, Inc. proceeding is hereby reconstituted by appointing Administrative Judge (Technical) Randall J. Charbeneau to serve on the Board in place of Administrative Judge (Technical) William M. Murphy.

All correspondence, documents, and other materials shall continue to be filed in accordance with the NRC E-Filing rule. See 10 CFR 2.302 et seq.

Issued at Rockville, Maryland, this 13th day of December 2011.
E. Roy Hawkens,
Chief Administrative Judge, Atomic Safety and Licensing Board Panel.

[FR Doc. 2011-32391 Filed 12-16-11; 8:45 am]

BILLING CODE 7590-01-P